DEPARTMENT OF THE INTERIOR

Fish and Wildlife Service

50 CFR Part 17

RIN 1018-AU22; 1018-AI48

Endangered and Threatened Wildlife and Plants; Final Rule To Remove the Arizona Distinct Population Segment of the Cactus Ferruginous Pygmy-owl (Glaucidium brasilianum cactorum) From the Federal List of Endangered and Threatened Wildlife; Withrawal of the Proposed Rule to Designate Critical Habitat; Removal of Federally Designated Critical Habitat

Correction

FR Document 06-3470 was published in the Rules section of the Federal Register in the issue of April 14, 2006 (71 FR 19452). This document was inadvertently published as a single Rule document. However, the portion of the document withdrawing the proposed rule to designate new critical habitat for the Arizona DPS of the pigmy-owl (67 FR 7103, November 27, 2002) should have been a separate document, and should have appeared in the Proposed Rule section.

[FR Doc. C6-3470 Filed 4-26-06; 8:45 am]

BILLING CODE 1505-01-D